DEPARTMENT OF LABOR

Employment and Training Administration

[TA-W-63,417]

Greene Plastics Corporation, Hope Valley, RI; Notice of Termination of Investigation

Pursuant to Section 221 of the Trade Act of 1974, as amended, an investigation was initiated on May 21, 2008 in response to a petition filed by a company official on behalf of workers of Greene Plastics Corporation, Hope Valley, Rhode Island.

The petitioner has requested that the petition be withdrawn. Consequently, the investigation has been terminated.

Signed in Washington, DC, this 9th day of June 2008.
Linda G. Poole,
Certifying Officer, Division of Trade Adjustment Assistance.

[FR Doc. E8-13979 Filed 6-19-08; 8:45 am]

BILLING CODE 4510-FN-P